ENVIRONMENTAL PROTECTION AGENCY

40 CFR Chapter I

48 CFR Chapter XV

[FRL-6772-2]

Change of Official EPA Mailing Address; Additional Technical Amendments and Corrections

AGENCY: Environmental Protection Agency (EPA).

ACTION: Final rule.

SUMMARY: In a previously published Federal Register (FR) document, EPA changed the official mailing address in the Code of Federal Regulations, where applicable, to reflect EPA's relocation of the majority of its Headquarter offices in the Washington Metropolitan area to new offices in downtown Washington, DC. However, with 25 CFR volumes, 6 major program areas, and continual amending of the Agency's regulations, it was inevitable that there would be problems. This document is continuing the update and correcting errors made in the previously published FR document. Although the official mailing address has changed, the physical location of the public information centers and dockets has not yet changed. This relocation effort will eventually consolidate the EPA Headquarter offices in the Washington Metropolitan area providing for increased savings, efficiency, and enhancement of customer services. The EPA mailing address change will be phased in for all EPA correspondence, publications, forms, and other documents.

DATES: This final rule is effective on June 28, 2001.

FOR FURTHER INFORMATION CONTACT: Paul Lapsley, Director of Regulatory Management Staff, Office of Policy, Economics, and Innovation (1806), Environmental Protection Agency, 1200 Pennsylvania Ave., NW., Washington, DC 20460; telephone number: (202) 564-5480; e-mail address: lapsley.paul@epa.gov.

SUPPLEMENTARY INFORMATION:

I. General Information

A. Does this Action Apply to Me?

This action is directed to the public in general, and has particular applicability to anyone who might need or want to communicate in writing with EPA, or submit information to the Agency. Since this action may apply to anyone, the Agency has not attempted to describe all the specific entities that may be affected by this action. If you have any questions regarding the applicability of this action to a particular entity, consult the person listed under FOR FURTHER INFORMATION CONTACT.

B. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A frequently updated electronic version of 40 CFR chapter I is available at http://www.access.gpo.gov/nara/cfr/cfrhtml_00/Title_40/40tab_00.html and for 48 CFR chapter 15 at http://www.access.gpo.gov/nara/cfr/cfrhtml_00/Title_48/48cfrv6_00.html, these beta sites are currently under development.

II. Background

A. What Action is the Agency Taking?

EPA announced and amended its official mailing address in the Federal Register issue of August 2, 2000 (65 FR 47323) (FRL-6487-4). With 25 CFR volumes, 6 major program areas, and continual amending of the Agency's regulations, it was inevitable that there would be problems. The technical amendments and corrections in this document will address the problems identified in the the new electronic CFR (e-CFR) available on the Government Printing Office server by the OFR editors during their update.

As explained in the August FR document, EPA is relocating its Headquarter offices in the Washington Metropolitan area to new offices in downtown Washington, DC. This effort will consolidate the majority of the EPA Headquarter offices in the Washington Metropolitan area providing for increased savings, efficiency, and enhancement of customer services. To date, approximately two-thirds of the EPA Headquarter offices have been successfully relocated to the new location, with the remaining offices expected to move within the next 2 years. Although not all of the offices have been relocated, the Agency will begin to phase in the new address for all of its documents over the next 12 months.

Although EPA's official mailing address has changed, EPA will continue to receive mail with the old address until the EPA relocation is complete. The EPA mailing center which processes all of EPA's mail has not been relocated yet, so EPA will continue to physically receive and process all of its mail at its current location until this operation is relocated.

If you wish to inspect a rulemaking record or deliver documents (e.g., your comments on a rulemaking) directly to the public record centers, which are also referred to as the public docket or locations for the public version of the official record, you should pay particular attention to information about the specific location of the particular public record center, because these record centers have not been relocated. EPA intends to consolidate these centers in the new location, and will announce the relocation when it occurs. For information about the location of these centers go to http://www.epa.gov/epahome/dockets.htm.

In certain cases, the EPA mailing address provided in the regulations, or in instructions for submitting a form or other information to EPA, may be an address other than the official mailing address for EPA Headquarter offices. In amending the CFR to reflect the address change, this FR document specifically identifies those CFR sections where the EPA address provided should not be changed. In addition, if you are responding to a request for comments, or otherwise wish to deliver your submission directly to a public docket or a particular office, please be sure to verify the relevant location to ensure that you identify the proper delivery address.

EPA intends to review existing regulatory documents, particularly forms and instructions for submitting information to the Agency, to ensure that the EPA mailing address is properly identified. If necessary, EPA intends to amend these documents over the next 2 years.

B. What is the Agency's Authority for Taking This Action?

EPA is issuing this document under its general rulemaking authority, Reorganization Plan No. 3 of 1970 (5 U.S.C. app.).

In addition, section 553 of the Administrative Procedure Act (APA), 5 U.S.C. 553(b)(B), provides that, when an agency for good cause finds that notice and public procedure are impracticable, unnecessary or contrary to the public interest, the agency may issue a rule without providing notice and an opportunity for public comment. EPA has determined that there is good cause for making this rule final without prior proposal and opportunity for comment. EPA has determined that these amendments are technical and non-substantive. Thus, notice and public procedure are unnecessary. EPA finds that this constitutes good cause under 5 U.S.C. 553(b)(B).

III. Do Any of the Regulatory Assessment Requirements Apply to this Action?

No. This final rule implements technical amendments and corrections to 40 CFR chapter I and 48 CFR chapter 15 to reflect a change in the EPA Headquarter's official mailing address, and it does not otherwise impose or amend any requirements. As such, the Office of Management and Budget (OMB) has determined that a technical amendment and/or correction is not a “significant regulatory action” subject to review by OMB under Executive Order 12866, entitled Regulatory Planning and Review (58 FR 51735, October 4, 1993). Nor does this rule contain any information collection requirements that require review and approval by OMB pursuant to the Paperwork Reduction Act of 1995 (PRA) (44 U.S.C. 3501 et seq.).

Because this action is not economically significant as defined by section 3(f) of Executive Order 12866, this action is not subject to Executive Order 13045, entitled Protection of Children from Environmental Health Risks and Safety Risks (62 FR 19885, April 23, 1997).

This action will not result in environmental justice related issues and does not, therefore, require special consideration under Executive Order 12898, entitled Federal Actions to Address Environmental Justice in Minority Populations and Low-Income Populations (59 FR 7629, February 16, 1994).

Since the Agency has made a “good cause” finding that this action is not subject to notice-and-comment requirements under the APA or any other statute (see Unit IV.), this action is not subject to provisions of the Regulatory Flexibility Act (RFA) (5 U.S.C. 601 et seq.), or to sections 202 and 205 of the Unfunded Mandates Reform Act of 1995 (UMRA) (Public Law 104-94). In addition, this action does not significantly or uniquely affect small governments or impose a significant intergovernmental mandate, as described in sections 203 and 204 of UMRA. This rule will not have substantial direct effects on the States, on the relationship between the national government and the States, or on the distribution of power and responsibilities among the various levels of government, as specified in Executive Order 13132, entitled Federalism (64 FR 43255, August 10, 1999). Similarly, this rule will not have substantial direct effects on tribal governments, on the relationship between the Federal government and Indian tribes, or on the distribution of power and responsibilities between the Federal government and Indian tribes, as specified in Executive Order 13175, entitled Consultation and Coordination with Indian Tribal Governments (65 FR 67249, November 6, 2000).

This action does not involve any technical standards that require the Agency's consideration of voluntary consensus standards pursuant to section 12(d) of the National Technology Transfer and Advancement Act of 1995 (NTTAA), Public Law 104-113, section 12(d) (15 U.S.C. 272 note).

In issuing this rule, EPA has taken the necessary steps to eliminate drafting errors and ambiguity, minimize potential litigation, and provide a clear legal standard for affected conduct, as required by section 3 of Executive Order 12988, entitled Civil Justice Reform (61 FR 4729, February 7, 1996).

EPA has complied with Executive Order 12630, entitled Governmental Actions and Interference with Constitutionally Protected Property Rights (53 FR 8859, March 15, 1988), by examining the takings implications of this rule in accordance with the “Attorney General's Supplemental Guidelines for the Evaluation of Risk and Avoidance of Unanticipated Takings” issued under the Executive order.

This rule is not subject to Executive Order 13211, entitled Actions Concerning Regulations That Significantly Affect Energy Supply, Distribution, or Use (66 FR 28355, May 22, 2001), because this action is not a significant regulatory action under Executive Order 12866.

IV. Will EPA Submit this Final Rule to Congress and the Comptroller General?

Yes. The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. CRA section 808 allows the issuing agency to make a rule effective sooner than otherwise provided by the CRA, if the agency makes a good cause finding that notice and public procedure is impracticable, unnecessary, or contrary to the public interest. This determination must be supported by a brief statement (5 U.S.C. 808(2)). As stated previously, EPA has made such a good cause finding, including the reasons therefore, and established an effective date of June 28, 2001. EPA will submit a report containing this rule and other required information to the U.S. Senate, the U.S. House of Representatives, and the Comptroller General of the United States prior to publication of the rule in the Federal Register. This action is not a “major rule” as defined by 5 U.S.C. 804(2).

List of Subjects in 40 CFR Chapter I and 48 CFR Chapter 15

Environmental protection.

Dated: June 22, 2001.
Christine Todd Whitman,
Administrator.

Therefore, under the authority of Reorganization Plan No. 3 of 1970 (5 U.S.C. app.), 40 CFR chapter I and 48 CFR chapter 15 are amended and/or corrected as follows:

40 CFR CHAPTER I—[AMENDED]

Technical Amendments

1. By removing the phrase “401 M Street SW.” and adding in its place “1200 Pennsylvania Ave., NW.”, except in § § 79.56(d)(5)(ii); 79.61(c)(3)(i)(B); 80.2 (w), (y), and (z); 141.142(d); 435.11(f); 435.41 (h); and 62.12(b) the address is revised to read “401 M St., SW.”.

2. By removing the phrase “401 M St. SW.” and adding in its place “1200 Pennsylvania Ave., NW.”.

3. By removing the phrase “Washington, D.C. 20460” and adding in its place “Washington, DC 20460”.

4. By removing the phrase “Washington DC 20460” and adding in its place “Washington, DC 20460”.

5. By removing the phrase “401 M Street S.W.” and adding in its place “401 M St., SW.”.

6. By removing the phrase “401 M St. SW” and adding in its place “401 M St., SW.”.

7. By amending § 2.213(a) to remove the phrase “Freedom of Information Officer (A-101)” and add in its place “Headquarters Freedom of Information Operations (1105)”.

8. By amending § § 10.2(c) and 14.7 to remove the phrase “(LE-132G)” and add in their place “(2311)”.

9. By amending § 23.12(a) to remove the phrase “(LE-130)” and add in its place “(2311)”.

10. By amending § 67.11 (b)(3) to remove the phrase “401 M Street” and add in its place “1200 Pennsylvania Ave.”.

11. By amending § 143.4(b) to remove the phrase “1200 Pennsylvania Ave., NW.” in the paragraph at the end of the table preceding the footnotes and add in its place “401 M St., SW.”.

12. By amending § 178.25(b)(1) to remove the phrase “(A-110)” and add “(1900)” in its place.

13. By amending § 238.30 (b) to remove the phrase “1200 Pennsylvania Ave., NW.” and add in its place “401 M St., SW.”.

14. By amending § 260.11(a)(11) to remove the phrase “OSW Methods Team, 401 M St., SW.” and add in its place “OSW Methods Team, 1200 Pennsylvania Ave., NW.”.

15. By amending part 261, under Appendix IX, table 1, third column, item (5) “Data Submittals” for “Bethlehem Steel Corporation” as follows:

a. By removing the phrase “the Section Chief, Delisting Section”.

b. By removing the phrase “HWID/OSW (5304W)(5304), U.S. EPA, 1200 Pennsylvania Ave., NW., Washington, DC 20460” and adding in its place “Waste and Chemicals Management Division (Mail Code 3HW11), U.S. EPA Region III, 1650 Arch St., Philadelphia, PA 19103”.

16. By amending part 261, under Appendix IX, table 2, third column, item (3) “Data submittals” for “Bethlehem Steel Corp.,” “Steelton, PA.,” to remove the phrase “the Section Chief, Variances Section, PSPD/OSW, (OS-343)” and add in its place “PSPD/OSW (5303W)”.

17. By amending part 430, Appendix A, sections 18.11 and 18.12 to remove the phrase “401 M St. SW” and add in its place “401 M St., SW.”.

18. By amending § 761.205(a)(3) to remove the phrase “401 M St. SW” and add in its place “1200 Pennsylvania Ave., NW.”.

Corrections

In FR Doc. 00-18165, published in the Federal Register of August 2, 2000 (65 FR 47323), make the following corrections:

1. On page 47325, correct amendatory instruction number 7 by removing the phrase “62.12(b) and”.

2. On page 47325, in amendatory instruction number 8, make the following corrections:

a. Remove the phrase “52.1320 (b)(3),” and add that same phrase in numerical order to the exceptions list in amendatory instruction number 10.

b. Correct the phrase “52.2220(b)(3)” to read “52.2220(b)(2)”.

c. Remove the phrase “86.095-35(h)(2)” and add in its place “86.095-35(i)”.

d. Remove the phrase “86.1808-01(f)” and add in its place “86.1807-01(f)”.

e. Remove the phrases “141.23 (footnotes 3, 4, 7, and 11),”; “141.40(n)(11),” ; and “141.143(d),” .

3. On page 47325, correct amendatory instruction number 9 by removing the phrase “52.03(d)(1)” and adding in its place “52.02(d)(1)”.

4. On page 47325, correct amendatory instruction number 10 by removing the phrase “52.1620(b)(3),” and adding it in numerical order to the list of exceptions in amendatory instruction number 8.

5. On page 47325, correct amendatory instruction number 27 to read:

27. In § 265.1080(f)(2)(viii)(H)(2), remove “2129” and add in its place “1812.”

6. On page 47325, remove amendatory instructions number 26 and 28. Renumber amendatory instruction 27 as number 26 and amendatory instructions 29 through 32 as amendatory instructions 27 through 30.

48 CFR CHAPTER 15—[AMENDED]

Technical Amendments

1. By removing the phrase “Washington, D.C. 20460” and adding in its place “Washington, DC 20460”.

2. By removing the phrase “Washington DC 20460” and adding in its place “Washington, DC 20460”.

Correction

In FR Doc. 00-18165, published in the Federal Register of August 2, 2000 (65 FR 47323), make the following correction on page 47325, in the third column, at the bottom of the page, in amendatory instruction number 2 under heading “48 CFR Chapter 15—AMENDED,” add a period after the last set of quotation marks.

[FR Doc. 01-16269 Filed 6-27-01; 8:45 am]

BILLING CODE 6560-50-S